AGENCY FOR INTERNATIONAL DEVELOPMENT

Agency Information Collection Activities; Submission to the Office of Management and Budget for Review and Approval; Comment Request; Submission for Review

AGENCY: U.S. Agency for International Development (USAID).

ACTION: 30-Day notice and request for comments.

SUMMARY: U.S. Agency for International Development (USAID), as part of its continuing effort to reduce paperwork and respondent burden, invites the general public and other Federal agencies to take this opportunity to comment on the following information collection, as required by the Paperwork Reduction Act of 1995, Public Law 104-13. Comments are requested concerning (1) whether the proposed collection of information is necessary for sustaining USAID-funded programming; (2) the accuracy of USAID's estimate of the burden of the proposed collection of information; (3) ways to enhance the quality, utility, and clarity of the information to be collected; and (4) ways to minimize the burden of the collection of information on respondents.

DATES: All comments should be submitted within 30 calendar days from the date of this publication.

ADDRESSES: Interested persons are invited to submit comments regarding the proposed information collection to Ethel Brooks, USAID, Bureau of Economic Growth, Education and Environment (E3)/Office of Education at ebrooks@usaid.gov.

FOR FURTHER INFORMATION CONTACT: Ethel Brooks, USAID, Bureau of Economic Growth, Education and Environment (E3)/Office of Education at ebrooks@usaid.gov or 202-712-4226.

SUPPLEMENTARY INFORMATION:

Title: Forms used to collect USAID Exchange Visitor Program management data, including Conditions of Sponsorship for U.S. Activities; Exchange Visitors Biographical Data; Dependent Certification; and Cost Repayment.

Analysis: Data from these forms are required to manage USAID's Exchange Visitor Program.

In support of its development objectives, USAID sponsors U.S.-based education and capacity strengthening programs for host country nationals, referred to as the Exchange Visitor (EV) Program. Exchange Visitors travel to the United States under a J-1 visa.

The USAID Bureau of Economic Growth, Education, and Environment, Office of Education (E3/ED) manages the Agency's J-1 visa designation and ensures the Agency's compliance with Department of Homeland Security (DHS) and Department of State (DoS) regulations contained in 22 CFR 62.1-90. The Office of Education collects Exchange Visitor data from USAID's overseas Missions and Contractors, and manages the Agency's EV approval process. USAID relies on the data to fulfill a mandatory Agency function of providing the DHS, including Immigration and Customs Enforcement (ICE), and the DoS with information about host country nationals who study in the U.S. under USAID sponsorship. The referenced bio data forms are used to collect such data. The forms include a section for collecting data about the individuals': (a) Suitability for USAID sponsorship; (b) agreed upon commitment to return to the home country and use their newly acquired skills to help solve local development problems; (c) agreement to reimburse program costs if they fail to comply with USAID's and other U.S. Government Agencies Policy requirements; and (d) certification of dependents who accompany or visit EVs during their study in the U.S. USAID/Washington and Missions also use the data collected through these forms to monitor program performance and program completion, along with other management interventions. The main purpose is to enable the transfer of effective education and capacity interventions to host country governments while supporting U.S. national interests. The secondary purpose is to improve future planning and use of USAID resources. These objectives are aligned with Congressional requirements under the Foreign Assistance Act of 1961, as amended. They are also closely aligned with objectives of the Journey to Self-Reliance for countries where USAID operates.

Method of Collection: Electronic.

OMB Number: Not assigned.

Agency Form No.: N/A.

Agency: U.S. Agency for International Development (USAID).

Federal Register: This information was previously published in the Federal Register on September 4, 2019 allowing for a 60-day public comment period under Document #2019-19233.

Type of Request: Forms Renewal.

Affected Public: Host country nationals whose study in the U.S. is funded by USAID.

Number of Respondents: 1.

One Responder submitted a comment for the public record. The comment was unrelated to collecting data, instead it was a concern that foreign students who are sponsored to study in the U.S. remain here indefinitely and fill jobs that should be reserved for Americans.

Expiration Date: Three years from issuance date.

Frequency: Once during the Exchange Visitor's program period.

Estimated number of hours: Less than 15 minutes per form.

Stephen M. Kowal,
Deputy Director, USAID E3 Bureau Office of Education.

[FR Doc. 2019-26938 Filed 12-12-19; 8:45 am]

BILLING CODE P